DEPARTMENT OF THE INTERIOR

Bureau of Land Management

43 CFR Part 2800

[BLM_HQ_FRN_MO# 4500177145]

RIN 1004-AE78

Rights-of-Way, Leasing, and Operations for Renewable Energy; Corrections

AGENCY: Bureau of Land Management, Interior.

ACTION: Final rule; corrections.

SUMMARY: The Bureau of Land Management (BLM) is correcting a final rule that appeared in the Federal Register on May 1, 2024.

DATES: Effective on July 1, 2024.

FOR FURTHER INFORMATION CONTACT: Jayme Lopez, Interagency Coordination Liaison, by phone at (520) 235-4581, or by email at energy@blm.gov for information relating to the BLM Renewable Energy programs and information about the final rule. Please use “RIN 1004-AE78” in the subject line.

Individuals in the United States who are deaf, deafblind, hard of hearing, or have a speech disability may dial 711 (TTY, TDD, or TeleBraille) to access telecommunications relay services. Individuals outside the United States should use the relay services offered within their country to make international calls to the point-of-contact in the United States. For a summary of the final rule, please see the final rule summary document in docket BLM-2024-08099 on www.regulations.gov.

SUPPLEMENTARY INFORMATION: In FR Doc. 2024-08099 beginning on page 35634 in the Federal Register of Wednesday, May 1, 2024, the following corrections are made:

§ 2801.5 [Corrected]

On page 35677, in the first column, amendatory instruction 2.b.v. is corrected to read

“v. Adding the term `Megawatt hour (MWh) rate' and revising the term “Reasonable costs”; and”

§ 2804.26 [Corrected]

On page 35679, in the first column, in amendatory instruction 13, § 2804.26 is corrected by adding paragraph (a)(9) to read as follows:

(a) * * *

(9) You do not comply with a deficiency notice (see § 2804.25(c) of this subpart) within the time specified in the notice.

* * * * *

§ 2805.11 [Corrected]

On page 35679, in the third column, amendatory instruction 19 is corrected to read “19. Amend § 2805.11 by revising the section heading and paragraphs (c)(2) introductory text and (c)(2)(iv) and (v) and adding paragraph (c)(4) to read as follows:”

This action by the Principal Deputy Assistant Secretary is taken pursuant to an existing delegation of authority.

Steven H. Feldgus,
Principal Deputy Assistant Secretary, Land and Minerals Management.

[FR Doc. 2024-14299 Filed 6-27-24; 8:45 am]

BILLING CODE 4331-29-P